DEPARTMENT OF THE INTERIOR

National Park Service

[NPS-WASO-NAGPRA-NPS0038295; PPWOCRADN0-PCU00RP14.R50000]

Notice of Intended Repatriation: Ralph T. Coe Center for the Arts, Santa Fe, NM

AGENCY: National Park Service, Interior.

ACTION: Notice.

SUMMARY: In accordance with the Native American Graves Protection and Repatriation Act (NAGPRA), the Ralph T. Coe Center for the Arts intends to repatriate a certain cultural item that meets the definition of an object of cultural patrimony and that has a cultural affiliation with the Indian Tribes or Native Hawaiian organizations in this notice.

DATES: Repatriation of the cultural item in this notice may occur on or after August 19, 2024.

ADDRESSES: Rachel Wixom, Ralph T. Coe Center for the Arts, 1590B Pacheco, Santa Fe, NM 87505, telephone (505) 983-6372, email rwixom@coeartscenter.org.

SUPPLEMENTARY INFORMATION: This notice is published as part of the National Park Service's administrative responsibilities under NAGPRA. The determinations in this notice are the sole responsibility of the Ralph T. Coe Center for the Arts and additional information on the determinations in this notice, including the results of consultation, can be found in the summary or related records. The National Park Service is not responsible for the determinations in this notice.

Abstract of Information Available

A total of one cultural item has been requested for repatriation. The one object of cultural patrimony is a Mississippian Head Pot (catalog number NA1245).

The Ralph T. Coe Center for the Arts acquired NA1245 in 2011 as a gift from Ralph T. Coe. Ralph T. Coe acquired NA1245 on 01/30/2006 from Elenore Tulman Hancock Incorporated, a New York-based art dealer. When purchased, the accompanying provenance stated that it was from a family living in Jackson, Missouri, that had inherited it from their grandfather. The Coe Center for the Arts has no further provenance information.

Head pots are highly distinctive vessels. Upon assessment by the Quapaw Nation, it was determined that this vessel originates from the bootheel of Missouri and northeastern Arkansas. This vessel has a very high likelihood of originating from Pemiscot County, MO, Mississippi County, AR or one of the surrounding counties.

The Quapaw Nation has provided eight of the accepted categories to support ancestral connection to the area and sites this vessel is associated with. The provided lines of evidence are Historical, Geographical, Linguistic, Anthropological, Archeological, Folkloric, Oral Traditional, and Expert Opinion. These lines of evidence demonstrate a Quapaw connection to the archeological sites located along the St. Francis River and the central Mississippi River Valley. This habitation likely began during the Mississippian archeological phase and declined pre-contact, but nevertheless continued at a reduced level into the French colonial period. Because of comingling with previous groups, the Quapaw are connected to and affiliated with pre-contact, Mississippian, and also with earlier archeological phases of this region.

While this area was not in the treaty cession of the Quapaw, it was nevertheless a significant place in Quapaw history. Evidence from a variety of sources exists demonstrating Quapaw connection to this region. Based on the evidence provided, the Quapaw Nation is the primary federally recognized tribal nation connected to the sites associated with this style of vessel.

There are no known hazardous substances used to treat NA1245.

Determinations

The Ralph T. Coe Center for the Arts has determined that:

• The one object of cultural patrimony described in this notice has ongoing historical, traditional, or cultural importance central to the Native American group, including any constituent sub-group (such as a band, clan, lineage, ceremonial society, or other subdivision), according to the Native American traditional knowledge of an Indian Tribe or Native Hawaiian organization.

• There is a reasonable connection between the cultural item described in this notice and the Quapaw Nation.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after August 19, 2024. If competing requests for repatriation are received, the Ralph T. Coe Center for the Arts must determine the most appropriate requestor prior to repatriation. Requests for joint repatriation of the cultural item are considered a single request and not competing requests. The Ralph T. Coe Center for the Arts is responsible for sending a copy of this notice to the Indian Tribes and Native Hawaiian organizations identified in this notice and to any other consulting parties.

Authority: Native American Graves Protection and Repatriation Act, 25 U.S.C. 3004 and the implementing regulations, 43 CFR 10.9.

Dated: July 10, 2024.
Melanie O'Brien,
Manager, National NAGPRA Program.

[FR Doc. 2024-15893 Filed 7-18-24; 8:45 am]

BILLING CODE 4312-52-P